DEPARTMENT OF TRANSPORTATION

Surface Transportation Board

[STB Finance Docket No. 34299]

Gulf & Ohio Railways Holding Co., Inc., H. Peter Claussen and Linda C. Claussen—Continuance in Control Exemption—Chattahoochee & Gulf Railroad Co., Inc.

AGENCY: Surface Transportation Board, DOT.

ACTION: Notice of exemption.

SUMMARY: The Board grants an exemption, under 49 U.S.C. 10502, from the prior approval requirements of 49 U.S.C. 11323-25 for Gulf & Ohio Railways Holding Co., Inc., a noncarrier, and H. Peter Claussen and Linda C. Claussen (collectively, Petitioners), to continue in control of Chattahoochee & Gulf Railroad Co., Inc. (CGR), upon CGR's becoming a rail carrier pursuant to a related transaction in STB Finance Docket No. 34298.¹

¹ Chattahoochee & Gulf Railroad Co., Inc.—Acquisition and Operation Exemption-Line of Central of Georgia Railroad Company, STB Finance Docket No. 34298 (STB served Mar. 26, 2003).

DATES: This exemption will be effective June 15, 2003. Petitions to stay must be filed by June 2, 2003. Petitions to reopen must be filed by June 10, 2003.

ADDRESSES: Send an original and 10 copies of all pleadings, referring to STB Finance Docket No. 34299, to: Surface Transportation Board, 1925 K Street, NW., Washington, DC 20423-0001. In addition, send one copy of pleadings to Troy W. Garris, Weiner Brodsky Sidman Kider PC, 1300 19th Street, NW., Fifth Floor, Washington, DC 20036-1609.

FOR FURTHER INFORMATION CONTACT: Beryl Gordon, (202) 565-1600 (assistance for the hearing impaired is available through the Federal Information Relay Service (FIRS) at 1-800-877-8339).

SUPPLEMENTARY INFORMATION: Additional information is contained in the Board's decision. Copies of the decision may be purchased from Dā 2 Dā Legal Copy Service by calling (202) 293-7776 (assistance for the hearing impaired is available through FIRS at 1-800-877-8339) or by visiting Suite 405, 1925 K Street, NW., Washington, DC 20006.

Board decisions and notices are available on our Web site at http://www.stb.dot.gov.

Decided: May 9, 2003.
By the Board, Chairman Nober and Commissioner Morgan.
Vernon A. Williams,
Secretary.

[FR Doc. 03-12260 Filed 5-15-03; 8:45 am]

BILLING CODE 4915-00-P